DEPARTMENT OF ENERGY

Federal Energy Regulatory Commission

Combined Notice of Filings #1

Take notice that the Commission received the following exempt wholesale generator filings:

Docket Numbers: EG24-249-000.

Applicants: Troutdale Grid, LLC.

Description: Troutdale Grid, LLC submits Notice of Self-Certification of Exempt Wholesale Generator Status.

Filed Date: 8/2/24.

Accession Number: 20240802-5124.

Comment Date: 5 p.m. ET 8/23/24.

Take notice that the Commission received the following electric rate filings:

Docket Numbers: ER10-1852-095; ER10-1890-027; ER10-1951-069; ER10-1962-027; ER19-1076-012; ER11-2160-027; ER19-1073-011; ER11-4462-093; ER11-4677-028; ER11-4678-027; ER12-199-023; ER12-631-028; ER12-2444-026; ER13-1991-031; ER13-1992-031; ER13-2112-022; ER15-1016-020; ER15-1375-021; ER15-1418-021; ER15-1883-021; ER15-2243-018; ER15-2477-020; ER16-90-020; ER16-91-020; ER16-632-020; ER16-2443-017; ER17-582-019; ER17-583-019; ER17-838-067; ER17-2340-017; ER20-819-014; ER20-820-013; ER20-2695-012; ER21-1580-009; ER21-2294-010; ER21-2304-009; ER22-415-008; ER22-1370-008; ER22-2552-004; ER22-2824-007; ER23-147-004; ER23-148-004; ER23-1208-002; ER23-1541-002; ER23-1542-002; ER23-1543-002; ER24-34-003; ER24-136-003; ER24-359-002; ER24-818-001; ER24-827-001.

Applicants: Grace Orchard Energy Center, LLC, Yellow Pine Solar II, LLC, Crow Creek Solar, LLC, Sunlight Storage II, LLC, Proxima Solar, LLC, Desert Peak Energy Storage II, LLC, Desert Peak Energy Storage I, LLC, Desert Peak Energy Center, LLC, North Central Valley Energy Storage, LLC, Resurgence Solar II, LLC, Resurgence Solar I, LLC, Yellow Pine Solar, LLC, Java Solar, LLC, Sunlight Storage, LLC, Arlington Energy Center III, LLC, Arlington Solar, LLC, Arlington Energy Center II, LLC, Sky River Wind, LLC, Mohave County Wind Farm LLC, Blythe Solar IV, LLC, Blythe Solar III, LLC, Golden Hills North Wind, LLC, NextEra Energy Marketing, LLC, Whitney Point Solar, LLC, Westside Solar, LLC, NextEra Blythe Solar Energy Center, LLC, Blythe Solar II, LLC, Blythe Solar 110, LLC, Golden Hills Interconnection, LLC, Golden Hills Wind, LLC, Silver State Solar Power South, LLC, Adelanto Solar, LLC, Adelanto Solar II, LLC, McCoy Solar, LLC, Shafter Solar, LLC, Genesis Solar, LLC, Desert Sunlight 300, LLC, Desert Sunlight 250, LLC, North Sky River Energy, LLC, Windpower Partners 1993, LLC, Coram California Develop.m.ent, L.P., Vasco Winds, LLC, NextEra Energy Montezuma II Wind, LLC, NEPM II, LLC, Alta Wind VIII, LLC, FPL Energy Montezuma Wind, LLC, Windstar Energy, LLC, High Winds, LLC, NextEra Energy Services Massachusetts, LLC, FPL Energy Green Power Wind, LLC, Florida Power & Light Company.

Description: Notice of Change in Status of Adelanto Solar II, LLC et al.

Filed Date: 7/30/24.

Accession Number: 20240730-5207.

Comment Date: 5 p.m. ET 8/20/24.

Docket Numbers: ER20-1042-001.

Applicants: Nevada Gold Energy LLC.

Description: Compliance filing: Nevada Gold Energy Non Material Change in Status to be effective 8/3/2024.

Filed Date: 8/2/24.

Accession Number: 20240802-5086.

Comment Date: 5 p.m. ET 8/23/24.

Docket Numbers: ER24-2248-001.

Applicants: Consolidated Edison Company of New York, Inc.

Description: Tariff Amendment: WDS tariff 2nd Amendment 8-2-2024 in Docket No. ER24-2248 to be effective 6/11/2024.

Filed Date: 8/2/24.

Accession Number: 20240802-5092.

Comment Date: 5 p.m. ET 8/23/24.

Docket Numbers: ER24-2679-000.

Applicants: Southwest Power Pool, Inc.

Description: 205(d) Rate Filing: 3746R2 Tenaska Power Services Co. Attachment AO to be effective 10/1/2024.

Filed Date: 8/2/24.

Accession Number: 20240802-5013.

Comment Date: 5 p.m. ET 8/23/24.

Docket Numbers: ER24-2680-000.

Applicants: Chief Keystone Power, LLC.

Description: 205(d) Rate Filing: Informational & Ministerial Revisions to Reactive Rate Schedule to be effective 12/31/9998.

Filed Date: 8/2/24.

Accession Number: 20240802-5017.

Comment Date: 5 p.m. ET 8/23/24.

Docket Numbers: ER24-2681-000.

Applicants: Chief Conemaugh Power, LLC.

Description: 205(d) Rate Filing: Informational & Ministerial Revisions to Reactive Rate Schedule to be effective 12/31/9998.

Filed Date: 8/2/24.

Accession Number: 20240802-5021.

Comment Date: 5 p.m. ET 8/23/24.

Docket Numbers: ER24-2683-000.

Applicants: Interstate Power and Light Company.

Description: 205(d) Rate Filing: IPL and DAS II SFA to be effective 10/1/2024.

Filed Date: 8/2/24.

Accession Number: 20240802-5053.

Comment Date: 5 p.m. ET 8/23/24.

Docket Numbers: ER24-2684-000.

Applicants: Nevada Gold Energy LLC.

Description: Compliance filing: Nevada Gas Energy Non-Material Change in Status to be effective 8/3/2024.

Filed Date: 8/2/24.

Accession Number: 20240802-5062.

Comment Date: 5 p.m. ET 8/23/24.

Docket Numbers: ER24-2685-000.

Applicants: Atlas Solar, III, LLC.

Description: Tariff Amendment: Atlas Solar III Request to Cancel MBR to be effective 8/5/2024.

Filed Date: 8/2/24.

Accession Number: 20240802-5065.

Comment Date: 5 p.m. ET 8/23/24.

Docket Numbers: ER24-2686-000.

Applicants: Greenidge Generation LLC.

Description: 205(d) Rate Filing: Updated MBR Tariff—Change in Category Status to be effective 10/1/2024.

Filed Date: 8/2/24.

Accession Number: 20240802-5066.

Comment Date: 5 p.m. ET 8/23/24.

Docket Numbers: ER24-2687-000.

Applicants: California Independent System Operator Corporation.

Description: 205(d) Rate Filing: 2024-08-02 Tariff Clarifications Filing—2024 to be effective 8/3/2024.

Filed Date: 8/2/24.

Accession Number: 20240802-5068.

Comment Date: 5 p.m. ET 8/23/24.

Docket Numbers: ER24-2688-000.

Applicants: Consolidated Edison Company of New York, Inc.

Description: 205(d) Rate Filing: WDS tariff 2nd Amendment 8-2-2024 to be effective 6/11/2024.

Filed Date: 8/2/24.

Accession Number: 20240802-5074.

Comment Date: 5 p.m. ET 8/23/24.

Docket Numbers: ER24-2689-000.

Applicants: Upper Missouri G. & T. Electric Cooperative, Inc.

Description: 205(d) Rate Filing: UMPC Exhibit A Revision to WPC to be effective 9/1/2024.

Filed Date: 8/2/24.

Accession Number: 20240802-5079.

Comment Date: 5 p.m. ET 8/23/24.

Docket Numbers: ER24-2690-000.

Applicants: PJM Interconnection, L.L.C.

Description: Compliance filing: Compliance Filing to be effective 12/31/9998.

Filed Date: 8/2/24.

Accession Number: 20240802-5089.

Comment Date: 5 p.m. ET 8/23/24.

Docket Numbers: ER24-2691-000.

Applicants: Tucson Electric Power Company.

Description: 205(d) Rate Filing: Service Agreement No. 548, Large Interconnection Agreement to be effective 7/17/2024.

Filed Date: 8/2/24.

Accession Number: 20240802-5096.

Comment Date: 5 p.m. ET 8/23/24.

Docket Numbers: ER24-2692-000.

Applicants: Interstate Power and Light Company.

Description: 205(d) Rate Filing: IPL Depreciation Filing 2024 to be effective 10/1/2024.

Filed Date: 8/2/24.

Accession Number: 20240802-5099.

Comment Date: 5 p.m. ET 8/23/24.

Docket Numbers: ER24-2693-000.

Applicants: PJM Interconnection, L.L.C.

Description: 205(d) Rate Filing: Original GIA, Service Agreement No. 7319; AF1-129 to be effective 7/3/2024.

Filed Date: 8/2/24.

Accession Number: 20240802-5111.

Comment Date: 5 p.m. ET 8/23/24.

Take notice that the Commission received the following qualifying facility filings:

Docket Numbers: QF11-511-000.

Applicants: Carleton College.

Description: Refund Report of Carleton College.

Filed Date: 7/31/24.

Accession Number: 20240731-5268.

Comment Date: 5 p.m. ET 8/21/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 2, 2024.
Debbie-Anne A. Reese,
Acting Secretary.

[FR Doc. 2024-17655 Filed 8-8-24; 8:45 am]

BILLING CODE 6717-01-P